DEPARTMENT OF ENERGY

Federal Energy Regulatory Commission

[Project No. 14283-000]

Notice of Preliminary Permit Application Accepted for Filing and Soliciting Comments, Motions To Intervene, and Competing Applications; Earth By Design, Inc.

On October 13, 2011, and supplemented on October 30, 2011, Earth By Design, Inc. filed an application for a preliminary permit, pursuant to section 4(f) of the Federal Power Act (FPA), proposing to study the feasibility of the NUMC-A Hydroelectric Power Project (project) to be located on the North Unit Main Canal of the U.S. Bureau of Reclamation's Deschutes (Irrigation) Project near Madras in Jefferson County, Oregon. The sole purpose of a preliminary permit, if issued, is to grant the permit holder priority to file a license application during the permit term. A preliminary permit does not authorize the permit holder to perform any land-disturbing activities or otherwise enter upon lands or waters owned by others without the owners' express permission.

The proposed project would consist of the following: (1) A 4-foot-high, 40-foot-long concrete intake structure; (2) a 1210-foot-long, 72-inch-diameter penstock consisting of a 365-foot-long, 72-inch-diameter underground weholite pipe and an 845-foot-long, 72-inch-diameter underground steel pipe; (3) two Kaplan turbines totaling 2.03 megawatts; (4) a 10-foot-long, 14-foot-wide concrete powerhouse; (5) two siphon tubes directing flows back into the canal; (6) a 0.5-mile-long, 12.5-kilovolt (kV) transmission line which will interconnect with an existing overhead 69-kV transmission line. The estimated annual generation of the project would be 7.2 gigawatt-hours.

Applicant Contact: Mr. Jim Gordon, President, Earth By Design, Inc., 20407 Cady Lane Bldg. A, Bend, Oregon 97701; phone: (541) 385-1135.

FERC Contact: Ian Smith; phone: (202) 502-8943.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14283-000) in the docket number field to access the document. For assistance, contact FERC Online Support.

Dated: December 23, 2011.
Kimberly D. Bose,
Secretary.

[FR Doc. 2011-33640 Filed 12-30-11; 8:45 am]

BILLING CODE 6717-01-P